DEPARTMENT OF THE INTERIOR

Bureau of Land Management

[LLNV952000 L14200000.BJ0000 241A; 13-08807; MO#4500067817; TAS: 14X1109]

Filing of Plats of Survey; NV

AGENCY: Bureau of Land Management, Interior.

ACTION: Notice.

SUMMARY: The purpose of this notice is to inform the public and interested State and local government officials of the filing of Plats of Survey in Nevada.

DATES: Effective Dates: Unless otherwise stated filing is effective at 10:00 a.m. on the dates indicated below.

FOR FURTHER INFORMATION CONTACT: David D. Morlan, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described lands was officially filed at the Nevada State Office, Reno, Nevada on June 30, 2014:

The plat, in 1 sheet, representing the dependent resurvey of a portion of the east boundary, a portion of the subdivisional lines and the subdivision of sections 25 and 26, Township 24 South, Range 58 East, Mount Diablo Meridian, Nevada, under Group No. 887, was accepted June 25, 2014. This survey was executed to meet certain administrative needs of the BLM.

2. The Plat of Survey of the following described lands was officially filed at the Bureau of Land Management (BLM) Nevada State Office, Reno, Nevada, on June 30, 2014:

The plat, in 3 sheets, representing the dependent resurvey of a portion of the east boundary (Carson River Guide Meridian) and a portion of the subdivisional lines, the subdivision of section 1 and the metes-and-bounds surveys of a line 30 feet northerly and parallel with the apparent centerline of a portion of Eastgate Siding Road, a portion of the northerly right-of-way line of Flint Drive and a portion of the easterly right-of-way line of U.S. Highway No. 50, Township 15 North, Range 20 East, Mount Diablo Meridian, Nevada, under Group No. 920, was accepted June 25, 2014. This survey was executed to facilitate the conveyance of certain public lands to the Municipality of Carson City, Nevada, as provided for by special legislation within the Omnibus Public Land Management Act of 2009, Public Law 111-11.

3. The Plat of Survey of the following described lands was officially filed at the Bureau of Land Management (BLM) Nevada State Office, Reno, Nevada, on June 30, 2014:

The plat, in 1 sheet, representing the dependent resurvey of a portion of the subdivisional lines, the subdivision of section 6 and a metes-and-bounds survey of a portion of the Carson City and Lyon County Line, Township 15 North, Range 21 East, Mount Diablo Meridian, Nevada, under Group No. 920, was accepted June 25, 2014. This survey was executed to facilitate the conveyance of certain public lands to the Municipality of Carson City, Nevada, as provided for by special legislation within the Omnibus Public Land Management Act of 2009, Public Law 111-11.

4. The Plat of Survey of the following described lands was officially filed at the Bureau of Land Management (BLM) Nevada State Office, Reno, Nevada, on June 30, 2014:

The plat, in 2 sheets, representing the dependent resurvey of the Third Standard Parallel North through a portion of Range 20 East and a portion of the subdivisional lines, the subdivision of section 36 and a metes-and-bounds survey of a portion of the centerline of U.S. Highway No. 50, Township 16 North, Range 20 East, Mount Diablo Meridian, Nevada, under Group No. 920, was accepted June 25, 2014. This survey was executed to facilitate the conveyance of certain public lands to the Municipality of Carson City, Nevada, as provided for by special legislation within the Omnibus Public Land Management Act of 2009, Public Law 111-11.

5. The Plat of Survey of the following described lands was officially filed at the Bureau of Land Management (BLM) Nevada State Office, Reno, Nevada, on June 30, 2014:

The plat, in 1 sheet, representing the dependent resurvey of the Third Standard Parallel North through a portion of Range 21 East, a portion of the west boundary (Carson River Guide Meridian) and a portion of the subdivisional lines, the subdivision of section 31 and a metes-and-bounds survey of a portion of the Carson City and Lyon County Line, Township 16 North, Range 21 East, Mount Diablo Meridian, Nevada, under Group No. 920, was accepted June 25, 2014. This survey was executed to facilitate the conveyance of certain public lands to the Municipality of Carson City, Nevada, as provided for by special legislation within the Omnibus Public Land Management Act of 2009, Public Law 111-11.

The surveys listed above are now the basic record for describing the lands for all authorized purposes. These surveys have been placed in the open files in the BLM Nevada State Office and are available to the public as a matter of information. Copies of the surveys and related field notes may be furnished to the public upon payment of the appropriate fees.

Dated: July 1, 2014.
David D. Morlan,
Chief Cadastral Surveyor, Nevada.

[FR Doc. 2014-19234 Filed 8-13-14; 8:45 am]

BILLING CODE 4310-HC-P